DEPARTMENT OF ENERGY

Federal Energy Regulatory Commission

Combined Notice of Filings

Take notice that the Commission has received the following Natural Gas Pipeline Rate and Refund Report filings:

Filings Instituting Proceedings

Docket Numbers: CP13-9-000.

Applicants: Dominion Transmission, Inc.

Description: Application to Abandon Gas Transportation with NSTAR of Dominion Transmission, Inc.

Filed Date: 10/25/12.

Accession Number: 20121025-5162.

Comments Due: 5 p.m. ET 11/6/12.

Docket Numbers: RP13-196-000.

Applicants: Gulf South Pipeline Company, LP.

Description: Withdraw filing in Docket No. RP13-196-000.

Filed Date: 10/31/12.

Accession Number: 20121031-5039.

Comments Due: 5 p.m. ET 11/13/12.

Docket Numbers: RP13-208-000.

Applicants: Gulf South Pipeline Company, LP.

Description: EFT to FTS One Time Conversion filing to be effective 12/1/2012.

Filed Date: 10/31/12.

Accession Number: 20121031-5060.

Comments Due: 5 p.m. ET 11/13/12.

Docket Numbers: RP13-209-000.

Applicants: Gulf South Pipeline Company, LP.

Description: Create Umbrella Service to be effective 12/3/2012.

Filed Date: 10/31/12.

Accession Number: 20121031-5064.

Comments Due: 5 p.m. ET 11/13/12.

Docket Numbers: RP13-210-000.

Applicants: Gulf South Pipeline Company, LP.

Description: Agent Agreement Option filing to be effective 12/1/2012.

Filed Date: 10/31/12.

Accession Number: 20121031-5065.

Comments Due: 5 p.m. ET 11/13/12.

Docket Numbers: RP13-211-000.

Applicants: Boardwalk Storage Company, LLC.

Description: Cancellation of First Revised Volume No. 1 to be effective 10/31/2012.

Filed Date: 10/31/12.

Accession Number: 20121031-5068.

Comments Due: 5 p.m. ET 11/13/12.

Docket Numbers: RP13-212-000.

Applicants: Boardwalk Storage Company, LLC.

Description: Baseline filing of Second Revised Volume No. 1 to be effective 10/1/2012.

Filed Date: 10/31/12.

Accession Number: 20121031-5069.

Comments Due: 5 p.m. ET 11/13/12.

Docket Numbers: RP13-213-000.

Applicants: Gulf Crossing Pipeline Company LLC.

Description: Create Umbrella Service to be effective 12/3/2012.

Filed Date: 10/31/12.

Accession Number: 20121031-5108.

Comments Due: 5 p.m. ET 11/13/12.

Docket Numbers: RP13-214-000.

Applicants: Kinder Morgan Interstate Gas Transmissio.

Description: Neg Rate 2012-10-31—Mieco to be effective 11/1/2012.

Filed Date: 10/31/12.

Accession Number: 20121031-5112.

Comments Due: 5 p.m. ET 11/13/12.

Docket Numbers: RP13-215-000.

Applicants: Fayetteville Express Pipeline LLC.

Description: FEP 2012 Semi-Annual Fuel Filing 10/31/2012 to be effective 12/1/2012.

Filed Date: 10/31/12.

Accession Number: 20121031-5122.

Comments Due: 5 p.m. ET 11/13/12.

Docket Numbers: RP13-216-000.

Applicants: Gulf South Pipeline Company, LP.

Description: HK 37731 to Texla 40212 Cap Rel Neg Rate Agmt to be effective 11/1/2012.

Filed Date: 10/31/12.

Accession Number: 20121031-5126.

Comments Due: 5 p.m. ET 11/13/12.

Docket Numbers: RP13-217-000.

Applicants: Gulf South Pipeline Company, LP.

Description: HK 37731 to Sequent 40215 Cap Rel Neg Rate Agmt to be effective 11/1/2012.

Filed Date: 10/31/12.

Accession Number: 20121031-5128.

Comments Due: 5 p.m. ET 11/13/12.

Docket Numbers: RP13-218-000.

Applicants: Carolina Gas Transmission Corporation.

Description: BG Negotiated Rate Agreement to be effective 11/1/2012.

Filed Date: 10/31/12.

Accession Number: 20121031-5143.

Comments Due: 5 p.m. ET 11/13/12.

Docket Numbers: RP13-219-000.

Applicants: Gulf Crossing Pipeline Company LLC.

Description: JP Morgan 156-2 Amendment to neg rate agmt to be effective 11/1/2012.

Filed Date: 10/31/12.

Accession Number: 20121031-5144.

Comments Due: 5 p.m. ET 11/13/12.

Docket Numbers: RP13-220-000.

Applicants: Southern Star Central Gas Pipeline, Inc.

Description: Misc Tariff Filing October 2012 to be effective 12/1/2012.

Filed Date: 10/31/12.

Accession Number: 20121031-5148.

Comments Due: 5 p.m. ET 11/13/12.

Docket Numbers: RP13-221-000.

Applicants: Gulf South Pipeline Company, LP.

Description: HK 37733 to Texla 40218 Cap Rel Neg Rate Agmt filing to be effective 11/1/2012.

Filed Date: 10/31/12.

Accession Number: 20121031-5157.

Comments Due: 5 p.m. ET 11/13/12.

Docket Numbers: RP13-222-000.

Applicants: Gulf South Pipeline Company, LP.

Description: HK 37731 to Texla 40219 Cap Rel Neg Rate Agmt filing to be effective 11/1/2012.

Filed Date: 10/31/12.

Accession Number: 20121031-5158.

Comments Due: 5 p.m. ET 11/13/12.

Docket Numbers: RP13-223-000.

Applicants: Gulf South Pipeline Company, LP.

Description: HK 37637 to Sequent 40220 Cap Rel Neg Rate Agmt filing to be effective 11/1/2012.

Filed Date: 10/31/12.

Accession Number: 20121031-5159.

Comments Due: 5 p.m. ET 11/13/12.

Docket Numbers: RP13-224-000.

Applicants: Gulf South Pipeline Company, LP.

Description: ONEOK 34951 to BG 40185 cap rel neg rate agmt filing to be effective 11/1/2012.

Filed Date: 10/31/12.

Accession Number: 20121031-5160.

Comments Due: 5 p.m. ET 11/13/12.

Docket Numbers: RP13-225-000.

Applicants: Gulf South Pipeline Company, LP.

Description: QEP 37657-26 Amendment to neg rate agmt to be effective 11/1/2012.

Filed Date: 10/31/12.

Accession Number: 20121031-5162.

Comments Due: 5 p.m. ET 11/13/12.

Docket Numbers: RP13-226-000.

Applicants: Wyoming Interstate Company, L.L.C.

Description: FL&U October 2012 Filing to be effective 12/1/2012.

Filed Date: 10/31/12.

Accession Number: 20121031-5170.

Comments Due: 5 p.m. ET 11/13/12.

Docket Numbers: RP13-227-000.

Applicants: Midcontinent Express Pipeline LLC.

Description: Fuel Tracking Filing to be effective 12/1/2012.

Filed Date: 10/31/12.

Accession Number: 20121031-5191.

Comments Due: 5 p.m. ET 11/13/12.

Docket Numbers: RP13-228-000.

Applicants: ANR Pipeline Company.

Description: Centra Gas Manitoba to be effective 11/1/2013.

Filed Date: 10/31

Accession Number: 20121031-5194.

Comments Due: 5 p.m. ET 11/13/12.

Docket Numbers: RP13-229-000.

Applicants: Dominion Transmission, Inc.

Description: DTI—October 31, 2012 Negotiated Rate Agreements to be effective 11/1/2012.

Filed Date: 10/31/12.

Accession Number: 20121031-5196.

Comments Due: 5 p.m. ET 11/13/12.

Docket Numbers: RP13-232-000.

Applicants: WBI Energy Transmission, Inc.

Description: Non-conforming Negotiated Rate Agreement—MDU to be effective 12/1/2012.

Filed Date: 10/31/12.

Accession Number: 20121031-5198.

Comments Due: 5 p.m. ET 11/13/12.

Docket Numbers: RP13-233-000.

Applicants: Natural Gas Pipeline Company of America.

Description: Negotiated Rate Filing—Tenaska Gas Storage to be effective 10/31/2012.

Filed Date: 10/31/12.

Accession Number: 20121031-5200.

Comments Due: 5 p.m. ET 11/13/12.

Docket Numbers: RP13-234-000.

Applicants: Pine Needle LNG Company, LLC.

Description: PN Limited Section 4 Rate Filing to be effective 12/1/2012.

Filed Date: 10/31/12.

Accession Number: 20121031-5239.

Comments Due: 5 p.m. ET 11/13/12.

Docket Numbers: RP13-235-000.

Applicants: Elba Express Company, L.L.C.

Description: Miscellaneous Filing to be effective 12/1/2012.

Filed Date: 10/31/12.

Accession Number: 20121031-5241.

Comments Due: 5 p.m. ET 11/13/12.

Docket Numbers: RP13-236-000.

Applicants: Colorado Interstate Gas Company, L.L.C.

Description: High Plains PAL Service to be effective 12/1/2012.

Filed Date: 10/31/12.

Accession Number: 20121031-5249.

Comments Due: 5 p.m. ET 11/13/12.

Docket Numbers: RP13-237-000.

Applicants: Texas Eastern Transmission, LP.

Description: ASA TETLP DEC 2012 FILING to be effective 12/1/2012.

Filed Date: 10/31/12.

Accession Number: 20121031-5252.

Comments Due: 5 p.m. ET 11/13/12.

Docket Numbers: RP13-238-000.

Applicants: Algonquin Gas Transmission, LLC.

Description: AGT FRQ 2012 FILING to be effective 12/1/2012.

Filed Date: 10/31/12.

Accession Number: 20121031-5254.

Comments Due: 5 p.m. ET 11/13/12.

Docket Numbers: RP13-239-000.

Applicants: Northern Natural Gas Company.

Description: 20121031 Negotiated Rate to be effective 11/1/2012.

Filed Date: 10/31/12.

Accession Number: 20121031-5257.

Comments Due: 5 p.m. ET 11/13/12.

Docket Numbers: RP13-240-000.

Applicants: Trailblazer Pipeline Company LLC.

Description: Rate Schedule FTB to be effective 12/1/2012.

Filed Date: 10/31/12.

Accession Number: 20121031-5258.

Comments Due: 5 p.m. ET 11/13/12.

Docket Numbers: RP13-241-000.

Applicants: ETC Tiger Pipeline, LLC.

Description: ETC Tiger 2012 Semi-Annual Fuel Filing 10/31/12 to be effective 12/1/2012.

Filed Date: 10/31/12.

Accession Number: 20121031-5282.

Comments Due: 5 p.m. ET 11/13/12.

Docket Numbers: RP13-242-000.

Applicants: Texas Gas Transmission, LLC.

Description: Atmos 32658 Neg Rate Agmt to be effective 11/1/2012.

Filed Date: 11/1/12.

Accession Number: 20121101-5011.

Comments Due: 5 p.m. ET 11/13/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-102-001.

Applicants: Northwest Pipeline GP

Description: NAESB 2.0 Compliance Filing—Substitute Sheet to be effective 12/1/2012.

Filed Date: 10/31/12.

Accession Number: 20121031-5212.

Comments Due: 5 p.m. ET 11/13/12.

Docket Numbers: RP13-180-001.

Applicants: Natural Gas Pipeline Company of America.

Description: Amended Filing—EDF Trading Negotiated Rate Agreement to be effective 11/1/2012.

Filed Date: 10/31/12.

Accession Number: 20121031-5267.

Comments Due: 5 p.m. ET 11/13/12.

Docket Numbers: RP13-39-001.

Applicants: CenterPoint Energy—Mississippi River T.

Description: Compliance Filing—NAESB Compliance Filing (Version 2.0) to be effective 12/1/2012.

Filed Date: 10/31/12.

Accession Number: 20121031-5253.

Comments Due: 5 p.m. ET 11/13/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 1, 2012.
Nathaniel J. Davis, Sr.,
Deputy Secretary.

[FR Doc. 2012-27298 Filed 11-7-12; 8:45 am]

BILLING CODE 6717-01-P